DEPARTMENT OF COMMERCE

National Oceanic and Atmospheric Administration

50 CFR Part 648

[Docket No. 231106-0262; RTID 0648-XD357]

Fisheries of the Northeastern United States; Atlantic Bluefish Fishery; 2024 and Projected 2025 Bluefish Specifications

AGENCY: National Marine Fisheries Service (NMFS), National Oceanic and Atmospheric Administration (NOAA), Commerce.

ACTION: Proposed rule; request for comments.

SUMMARY: NMFS proposes Atlantic bluefish specifications for the 2024 fishing year and projects specifications for fishing year 2025, as recommended by the Mid-Atlantic Fishery Management Council. This action is necessary to establish allowable harvest levels for the stock to prevent overfishing and promote rebuilding, using the best scientific information available. This rule also informs the public of the proposed fishery specifications and provides an opportunity for comment on the proposed action.

DATES: Comments must be received by December 1, 2023.

ADDRESSES: You may submit comments on this document, identified by NOAA-NMFS-2023-0126, by the following method:

Electronic Submission: Submit all electronic public comments via the Federal e-Rulemaking Portal.

1. Go to https://www.regulations.gov, and enter “NOAA-NMFS-2023-0126” in the Search box;

2. Click the “Comment” icon, complete the required fields; and

3. Enter or attach your comments.

Instructions: Comments sent by any other method, to any other address or individual, or received after the end of the comment period, may not be considered by NMFS. All comments received are part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous). If you are unable to submit your comment through https://www.regulations.gov, contact Cynthia Ferrio, Fishery Policy Analyst, Cynthia.Ferrio@noaa.gov.

The Mid-Atlantic Fishery Management Council prepared a draft environmental assessment (EA) for this action that describes the proposed measures and other considered alternatives. The EA also provides an economic analysis, as well as an analysis of the biological, economic, and social impacts of the proposed measures and other considered alternatives. Copies of the specifications document, including the EA, are available on request from Dr. Christopher M. Moore, Executive Director, Mid-Atlantic Fishery Management Council, Suite 201, 800 North State Street, Dover, DE 19901. These documents are also accessible via the internet at https://www.mafmc.org/supporting-documents.

FOR FURTHER INFORMATION CONTACT: Cynthia Ferrio, Fishery Policy Analyst, (978) 281-9180.

SUPPLEMENTARY INFORMATION:

Background

The Mid-Atlantic Fishery Management Council and the Atlantic States Marine Fisheries Commission jointly manage the Atlantic Bluefish Fishery Management Plan (FMP). The FMP requires the specification of annual regulatory limits for up to 3 years at a time, including: an acceptable biological catch (ABC), commercial and recreational annual catch limits (ACL), commercial and recreational annual catch targets (ACT), a commercial quota, a recreational harvest limit (RHL), and other management measures. This action proposes bluefish specifications for the 2024 fishing year, and projects specifications for 2025, based on Council and Commission recommendations.

Recent research track and management track assessments for bluefish (December 2022 and June 2023, respectively) determined that the stock is no longer overfished and overfishing is not occurring. However, the spawning stock biomass has not yet reached its target, so the fishery remains under its rebuilding plan. These proposed specifications would decrease the 2024 acceptable biological catch by 43 percent from 2023, based on recommendations from the Council's Scientific and Statistical Committee (SSC), results from these assessments, and the rebuilding plan for the stock.

The Council's Bluefish Monitoring Committee recommended that no uncertainty buffers be applied to either the commercial or recreational sector in 2024 or 2025, but did recommend that commercial discards be accounted for in the specifications process beginning in fishing year 2024. In prior years, commercial discards have been considered negligible, but with updated assessment information, it is recommended that discards from both sectors be included. Although the stock is no longer overfished and therefore transferring quota between recreational and commercial sectors is no longer prohibited by governing regulations, no sector quota transfer is recommended because the fishery is still under a rebuilding plan. The resulting 2024 specifications would decrease the commercial quota by 43 percent, and the RHL by 15 percent from 2023. At their joint meeting in August 2023, the Council and the Commission's Bluefish Board reviewed and approved these specifications as recommended by the SSC and Monitoring Committee. No changes were recommended to recreational management measures (i.e., bag limits), as the average recreational harvest since 2021 (11.54 million pounds (lb); 5,234 metric tons (mt)) remains below the proposed RHL for 2024 (11.96 million lb; 5,425 mt). Status quo recreational measures are also intended to promote continued stability and consistency in the fishery while minimizing the risk of an overage in the recreational sector.

Although catch limits are decreasing, neither sector of the fishery is expected to be substantially impacted by this action. Harvest in both sectors has been decreasing in recent years; coastwide commercial landings have not exceeded 2.2 million lb (998 mt) in the last 3 years, and recreational harvest averaged 11.54 million lb (5,234 mt), both lower than the proposed future limits.

Proposed Specifications

This action proposes the Council's recommendations for 2024 and projected 2025 bluefish catch specifications, which are consistent with the SSC and Monitoring Committee recommendations (Table 1). These proposed specifications would decrease catch limits in 2024 based on best available information from the recent assessments and the rebuilding plan, but increases to limits are projected in 2025. A comparison of the current 2023, proposed 2024, and projected 2025 specifications is summarized below in Table 1. As previously mentioned, the Council did not recommend any changes to recreational management measures in these specifications, as the expected recreational landings under the existing measures are likely to achieve the proposed RHL without exceeding it. Therefore, all other Federal management measures, including commercial management measures, recreational season (open all year) and recreational fish size (none), would also remain unchanged under this action.

Table 1—Comparison of 2023, Proposed 2024, and Projected 2025 Bluefish Specifications *
| 2023 (Current): Million lb | 2023 (Current): Metric tons | 2024 (Proposed): Million lb | 2024 (Proposed): Metric tons | 2025 (Projected): Million lb | 2025 (Projected): Metric tons
Overfishing Limit | 45.17 | 20,490 | 25.87 | 11,734 | 27.49 | 12,467
ABC = Fishery ACL | 30.62 | 13,890 | 17.48 | 7,929 | 21.83 | 9,903
Commercial ACL = Commercial ACT | 4.29 | 1,945 | 2.45 | 1,110 | 3.06 | 1,386
Recreational ACL = Recreational ACT | 26.34 | 11,945 | 15.03 | 6,819 | 18.78 | 8,517
Commercial Discards | 0 | 0 | 0.02 | 11 | 0.02 | 11
Recreational Accountability Measures | 5.59 | 2,536 | 0 | 0 | 0 | 0
Recreational Discards | 6.64 | 3,012 | 3.08 | 1,396 | 3.08 | 1,396
Commercial Total Allowable Landings (TAL) | 4.29 | 1,945 | 2.42 | 1,099 | 3.03 | 1,375
Recreational TAL | 14.11 | 6,400 | 11.96 | 5,423 | 15.70 | 7,121
Sector Transfer | 0 | 0 | 0 | 0 | 0 | 0
Commercial Quota | 4.29 | 1,945 | 2.42 | 1,099 | 3.03 | 1,375
RHL | 14.11 | 6,400 | 11.96 | 5,423 | 15.70 | 7,121
*Specifications are derived from the ABC in metric tons (mt). When values are converted to millions of pounds the numbers may shift due to rounding. The conversion factor used is 1 mt = 2204.6226 lb.

The coastwide commercial quota is allocated to coastal states from Maine to Florida based on percent shares specified in the FMP. Table 2 provides the proposed commercial state allocations based on the Council-recommended coastwide commercial quotas for 2024 and 2025, and the phased-in changes to the percent share allocations to the states specified in Amendment 7. No states exceeded their allocated quota in 2022, or are projected to do so in 2023; therefore, no accountability measures for the commercial fishery are required for the 2024 fishing year based on the data available at this time.

Table 2—Proposed 2024 and Projected 2025 Bluefish State Commercial Quota Allocations
State | 2024 (Proposed): Percent share | 2024 (Proposed): Quota (lb) | 2024 (Proposed): Quota (kg) | 2025 (Projected): Percent share | 2025 (Projected): Quota (lb) | 2025 (Projected): Quota (kg)
Maine | 0.43 | 10,398 | 4,716 | 0.35 | 10,582 | 4,800
New Hampshire | 0.33 | 7,983 | 3,621 | 0.30 | 9,123 | 4,138
Massachusetts | 8.17 | 198,205 | 89,904 | 8.66 | 262,663 | 119,142
Rhode Island | 8.01 | 194,201 | 88,088 | 8.41 | 255,061 | 115,694
Connecticut | 1.19 | 28,847 | 13,085 | 1.16 | 35,309 | 16,016
New York | 14.40 | 349,264 | 158,424 | 15.74 | 477,518 | 216,598
New Jersey | 14.40 | 349,216 | 158,402 | 14.26 | 432,630 | 196,238
Delaware | 1.29 | 31,167 | 14,137 | 1.09 | 32,990 | 14,964
Maryland | 2.54 | 61,527 | 27,908 | 2.38 | 72,265 | 32,779
Virginia | 9.30 | 225,585 | 102,324 | 8.44 | 256,125 | 116,176
North Carolina | 32.05 | 777,159 | 352,513 | 32.04 | 972,012 | 440,897
South Carolina | 0.06 | 1,562 | 709 | 0.07 | 2,250 | 1,021
Georgia | 0.05 | 1,195 | 542 | 0.06 | 1,897 | 860
Florida | 7.80 | 189,071 | 85,761 | 7.04 | 213,625 | 96,899
Total | 100 | 2,425,085 | 1,100,000 | 100 | 3,033,561 | 1,376,000

The catch limits for 2025 were projected based on the new assessment data and the fourth year of the rebuilding plan model. The Council will review the projected 2025 specifications in light of any new information to determine if changes need to be made prior to their implementation. We will publish a notice prior to the 2025 fishing year to confirm these limits as projected or announce any necessary changes.

Classification

Pursuant to section 304(b)(1)(A) of the Magnuson Stevens Fishery Conservation and Management Act (Magnuson-Stevens Act), the NMFS Assistant Administrator has determined that this proposed rule is consistent with the Atlantic Bluefish FMP, other provisions of the Magnuson-Stevens Act, and other applicable law, subject to further consideration after public comment.

NMFS finds that a 15-day comment period for this action provides a reasonable opportunity for public participation in this action pursuant to Administrative Procedure Act section 553(c) (5 U.S.C 553(c)), while also ensuring that the final specifications are in place for the start of the bluefish fishing year on January 1, 2024. Stakeholder and industry groups have been involved with the development of this action and have participated in public meetings throughout the past year. A prolonged comment period and subsequent potential delay in implementation past the start of the 2024 fishing year would be contrary to the public interest, as it could create confusion both in the bluefish industry around current quotas and with state agencies as they prepare their annual management measures.

This action is exempt from review under Executive Order 12866 because it contains no implementing regulations.

The Chief Counsel for Regulation of the Department of Commerce certified to the Chief Counsel for Advocacy of the Small Business Administration that this proposed rule, if adopted, would not have a significant economic impact on a substantial number of small entities. The factual basis for this determination is as follows.

The Councils conducted an evaluation of the potential socioeconomic impacts of the proposed specifications in conjunction with an EA. There are no proposed regulatory changes in this bluefish action, so none are considered in the evaluation. The proposed action would decrease the 2024 ABC by 43 percent, the commercial quota by 43 percent, and the recreational harvest limit by 15 percent from 2023, consistent with the Mid-Atlantic Council SSC's recommendations, the results of the 2023 management track assessment, and the rebuilding plan for the stock. This action proposes no changes to recreational management measures beyond annual catch limits, such as bag limits.

This action would affect entities that participate in commercial bluefish fishing (those that hold commercial bluefish permits), and those with Federal for-hire (party/charter) recreational fishing permits for bluefish. Vessels may hold multiple fishing permits and some entities own multiple vessels and/or permits. According to the Northeast Fisheries Science Center commercial ownership database, 479 commercial fishing affiliate firms landed bluefish during the 2020-2022 period (the most recent and complete data available), with 473 of those commercial entities categorized as small businesses and 6 categorized as large businesses. Analyses indicate that bluefish revenues contributed less than two percent of the annual total gross receipts on average for those small businesses that landed bluefish in those years. For the recreational for-hire fishery, 412 for-hire affiliate firms generated revenues from recreational fishing for various species during 2020-2022. All of those business affiliates are categorized as small businesses, but it is not possible to derive the proportion of overall revenues for these for-hire firms resulting from fishing activities for an individual species such as bluefish. Nevertheless, given the popularity of bluefish as a recreational species in the Mid-Atlantic and New England, it is likely that revenues generated from bluefish may be somewhat important for many of these firms at certain times of the year.

Overall, proposed specifications for 2024 and projected specifications for 2025 are expected to provide similar fishing opportunities when compared to the 2023 fishing year. Although catch limits are decreasing in both the commercial and recreational sectors under these specifications, this change is not expected to substantially change overall fishing activity, result in catch overages or revenue losses to industry, or substantially impact the bluefish fishery as a whole. Harvest in both sectors has been decreasing in recent years; coastwide commercial landings have not exceeded 2.2 million lb (998 mt) in the last 3 years, and recreational harvest has averaged 11.54 million lb (5,234 mt), both lower than the proposed 2024 limits of 2.4 million lb (1,099 mt) and 11.96 million lb (5,425 mt), respectively. Additionally, this action is expected to provide similar fishing opportunities in the recreational sector compared to the previous year, as there are no proposed changes to the management measures such as recreational bag limits, which are most limiting to fishery behavior. Finally, state quota allocations are still changing, as 2024 is the third year of the phased-in quota re-allocation implemented by Amendment 7 to the Bluefish Fishery Management Plan. Therefore, regionally, there may be different amounts of commercial quota available. Often, fishing behavior and short-term landings are based on market conditions, which are not expected to substantially change as a result of these specifications. As such, this proposed action is not expected to have a substantial impact on the way the fishery operates or the revenue of small entities.

Overall, analyses indicate that the proposed specifications will not substantially change fishing effort, the risk of overfishing, prices/revenues, or fishery behavior. Therefore, the Council concluded, and NMFS agrees, that this action would not have a significant economic impact on a substantial number of small businesses. As a result, an initial regulatory flexibility analysis is not required and none has been prepared.

This action would not establish any new reporting or record-keeping requirements.

This proposed rule contains no new information collection requirements under the Paperwork Reduction Act of 1995.

Authority: 16 U.S.C. 1801 et seq.

Dated: November 9, 2023.
Samuel D. Rauch, III,
Deputy Assistant Administrator for Regulatory Programs, National Marine Fisheries Service.

[FR Doc. 2023-25222 Filed 11-15-23; 8:45 am]

BILLING CODE 3510-22-P